DEPARTMENT OF ENERGY

Federal Energy Regulatory Commission

[Docket No. RP00-500-001]

Chandeleur Pipe Line Company; Notice of Compliance Filing

October 12, 2000.

Take notice that on October 5, 2000, Chandeleur Pipe Line Company (Chandeleur) tendered for filing as part of its FERC Gas Tariff, Second Revised Volume No. 1, the following tariff sheet, to be effective October 1, 2000.

Second Revised Sheet No. 3A

Chandeleur asserts that the purpose of this filing is to comply with the Commission's Letter order issued September 25, 2000 in Docket No. RP00-500-000.

Chandeleur states that it is correcting a pagination error in Sheet No. 3A as directed by the Commission. No content changes have been made to the Sheet No. 3A other than the pagination change as requested.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-26683 Filed 10-17-00; 8:45 am]

BILLING CODE 6717-01-M